DEPARTMENT OF THE TREASURY

Submission for OMB Review; Comment Request

March 23, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 1, 2006 to be assured of consideration.

Bureau of Public Debt

OMB Number: 1535-0118.

Type of Review: Extension.

Title: Disposition of Securities Belonging to a Decedent's Estate Being Settled Without Administration.

Form: BPD PD F 5336.

Description: Used by person(s) entitled to a decedent's estate not being administered to requested disposition of securities and/or related payments.

Respondents: Individuals or households.

Estimated Total Burden Hours: 12,675 hours.

OMB Number: 1535-0138.

Type of Review: Extension.

Title: New Treasury Direct.

Description: The information is requested to establish a new account and process transactions.

Respondents: Individuals or households.

Estimated Total Burden Hours: 128,246 hours.

Clearance Officer: Vicki S. Thorpe (304) 480-8150, Bureau of the Public Debt, 200 Third Street, Parkersburg, West Virginia 26106.

OMB Reviewer: Alexander T. Hunt (202) 395-7316, Office of Management and Budget, Room 10235, New Executive Office Building, Washington, DC 20503.

Michael A. Robinson,
Treasury PRA, Clearance Officer.

[FR Doc. E6-4626 Filed 3-29-06; 8:45 am]

BILLING CODE 4810-39-P